DEPARTMENT OF AGRICULTURE

Forest Service

Information Collection; Appeal of Decisions Relating to Occupancy or Use of National Forest System Lands and Resources

AGENCY: Forest Service, USDA.

ACTION: Notice; requests for comments.

SUMMARY: In accordance with the Paperwork Reduction Act of 1995, the Forest Service is seeking comments on the renewal of a currently approved information collection.

DATES: Comments must be received in writing by August 29, 2016 to be considered.

ADDRESSES: Comments concerning this notice should be addressed to USDA Forest Service, Deb Beighley, Assistant Director, Appeals and Litigation, Ecosystem Management Coordination staff, 202-205-1277 or by email to dbeighley@fs.fed.us.

The public may inspect comments received at the Office of Ecosystem Management Coordination, Appeals & Litigation USDA Forest Service, 201 14th Street SW., Mail Stop 1104, Washington, DC 20024-1101, during normal business hours. Visitors are encouraged to call ahead at 202-791-8488 to facilitate entry into the building.

FOR FURTHER INFORMATION CONTACT: Deb Beighley, Assistant Director, Appeals and Litigation, Ecosystem Management Coordination staff, 202-205-1277. Individuals who use telecommunication devices for the deaf may call the Federal Relay Service at 800 877-8339 twenty four hours a day, every day of the year, including holidays.

SUPPLEMENTARY INFORMATION: Title: Appeal of Decisions Relating to Occupancy or Use of National Forest System Lands and Resources.

OMB Number: 0596-0231.

Expiration Date of Approval: August 31, 2016.

Type of Request: Renewal of a currently approved information collection, approval of an associated new information collection, Appeal of Decisions Relating to Occupancy or Use of National Forest System Lands and Resources.

Abstract: This appeal process modifies, renames, and relocates to a new part in the CFR the appeal process for decisions related to occupancy or use of NFS lands and resources. This updated regulation will simplify the appeal process, shorten the appeal period, and reduce the cost of appeal for certain types of Forest Service decisions affecting occupancy or use of NFS lands and resources. The information collected will be used by the Forest Service to determine if the decision that was appealed should be affirmed or reversed in whole or in part. These appeal procedures are limited to holders, operators, and solicited applicants as defined in the proposed rule, who therefore are the only individuals or entities subject to the information collection requirement.

The information collection required for the administrative appeal process in 36 CFR part 214 is approved and assigned OMB Control No. 0596-0231.

Estimate of Annual Burden: 8 hours per application.

Type of Respondents: People Appealing Decisions to Occupancy or Use of National Forest System Lands and Resources decisions.

Estimated Annual Number of Respondents: 70.

Estimated Annual Number of Responses per Respondent: One.

Estimated Total Annual Burden on Respondents: 560 hours.

Public Comment: Public comment is invited on (1) whether this information collection is necessary for the stated purposes and the proper performance of the functions of the Agency, including whether the information will have practical or scientific utility; (2) the accuracy of the Agency's estimate of the burden of the information collection, including the validity of the methodology and assumptions used; (3) ways to enhance the quality, utility, and clarity of the information to be collected; and (4) ways to minimize the burden of the information collection on respondents, including the use of automated, electronic, mechanical, or other technological collection techniques or other forms of information technology.

All comments received in response to this notice, including names and addresses when provided, will be a matter of public record. Comments will be summarized and included in the request for OMB approval of the information collection.

Dated: June 23, 2016.
Leslie A.C. Weldon,
Deputy Chief, National Forest System.

[FR Doc. 2016-15407 Filed 6-29-16; 8:45 am]

BILLING CODE 3411-15-P